DEPARTMENT OF COMMERCE

National Oceanic and Atmospheric Administration

[I.D. 011805A]

The Institute of Medicine Food and Nutrition Board; Orientation Public Meeting

AGENCY: National Marine Fisheries Service (NMFS), National Oceanic and Atmospheric Administration (NOAA), Commerce.

ACTION: Notice of meeting.

SUMMARY: The Institute of Medicine Food and Nutrition Board will meet in Washington, D.C. The meeting agenda can be found in the SUPPLEMENTARY INFORMATION section of this notice.

DATES: The meeting will begin at 1 p.m. and adjourn at 4 p.m. on Tuesday, February 1, 2005.

ADDRESSES: The meeting will be held at the National Academy of Sciences Lecture Room, 2100 C Street, N.W., Washington, D.C.

National Marine Fisheries Service/National Seafood Inspection Laboratory address: 705 Convent Ave., Pascagoula, MS 39567.

FOR FURTHER INFORMATION CONTACT: E. Spencer Garrett, National Seafood Inspection Laboratory; telephone: 228-769-8964.

SUPPLEMENTARY INFORMATION: The committee's agenda includes the following issues: nutrient relationships in seafood - selection to balance benefits and risks.

Background

Seafood contributes a variety of nutritional benefits to the American diet. They are sources of protein, calcium, iodine, copper, zinc, and omega-3 fatty acids. Furthermore, some nutrients may affect bioavailability, toxico-dynamics, and target-organ transport, and thus affect the toxicological response to certain compounds. Contamination of marine resources, however, whether by naturally-occurring or introduced toxicants, is a concern for U.S. consumers because of the potential for adverse health effects. Human exposure to toxic compounds through seafood can be managed by making choices that provide desired nutrients balanced against exposure to such compounds in specific types of seafood that have been found to pose a particular health risk. Consumers, particularly subpopulations that may be at increased risk, need authoritative information to inform their choices. The National Marine Fisheries Service has contracted with the National Academies of Science to produce a report that will recommend approaches to decision-making for selecting seafood to obtain the greatest nutritional benefits, balanced against exposure to potential toxicants and identifies data gaps and research needs. The study objectives will include:

1. Identifying and examining the routes of entry of naturally-occurring and introduced toxicants into the food supply, through seafood sources, and evaluating food consumption patterns of the U.S. population to estimate current levels of intake exposure.

2. Assessing the evidence on availability of specific nutrients in seafood compared to other food sources and determine the impact of modifying food choices to reduce intake of naturally-occurring and introduced toxicants on nutritional intake and status within the population, including vulnerable population subgroups.

3. Developing a decision path, geared to the needs of U.S. consumers, for selecting seafood to obtain maximal nutritional benefits while minimizing potential exposure risks.

4. Identifying additional data needs and making recommendations for future research, including assessment of the mitigation effects of nutrients on toxicants in seafood.

Agenda

Tuesday, February 1, 2005

1:00 p.m.: Welcome, Introductions, and Purpose of the Public Session

Presentations from the Sponsoring Agency

1:10 p.m.: U.S. Department of Commerce, National Oceanic and Atmospheric Administration, National Marine Fisheries Service

2:10 p.m.: U.S. Department of Health and Human Services, Food and Drug Administration

2:40 p.m.: U.S. Environmental Protection Agency

3:10 p.m.: Break

3:30 p.m.: Open Discussion. Interested individuals and organizations are invited to present their views during this part of the open session. To be considered for a 3-minute presentation, please provide topic and contact information to Sandra Amamoo-Kakra no later than January 25, 2005, by fax (202) 334-236, or by email (samamook@nas.edu).

4:00 p.m.: Adjourn

Special Accommodations

These meetings are physically accessible to people with disabilities. Requests for sign language interpretation or other auxiliary aids should be directed to Helen Allen, 907-271-2809, at least five working days prior to the meeting date.

Dated: January 18, 2005.
Emily Menashes,
Acting Director, Office of Sustainable Fisheries, National Marine Fisheries Service.

[FR Doc. 05-1234 Filed 1-21-05; 8:45 am]

BILLING CODE 3510-22-S